DEPARTMENT OF THE INTERIOR

Geological Survey

[GX16EE000101000]

Agency Information Collection Activities: Request for Comment on Proposed Revisions to the United States Thoroughfare, Landmark and Postal Address Data Standard

AGENCY: U.S. Geological Survey (USGS), Department of the Interior.

ACTION: Notice; request for comments

SUMMARY: The Federal Geographic Data Committee (FGDC) is conducting a public review of proposed revisions to the United States Thoroughfare, Landmark and Postal Address Data Standard (Address Data Standard).

The primary purposes of the Address Data Standard are to develop content specifications for address information, provide classifications for different types of addresses, establish appropriate standards and measures for evaluation of address data quality, and support exchange of address data. The FGDC endorsed the Address Data Standard in 2011, and numerous federal, state and local government agencies have since used it to manage their address data. Over the last five years, users and the authors identified a number of desirable minor corrections to the Address Data Standard. Additionally, the U.S. Census Bureau, as the maintenance authority for the Standard, has proposed adding a new Map Position element.

Reviewers are requested to review and comment on the proposed revisions and/or submit additional comments on the Address Data Standard.

The draft revision of the standard may be downloaded from: https://www.fgdc.gov/standards/projects/FGDC-standards-projects/street-address/AddressDataStandardRevised.

The change log lists proposed changes identified since publication of the Address Data Standard in 2011. These changes are reflected in the version of the standard posted for the 2015 maintenance review and are subject to the official public review and adjudication process. The change log may be downloaded from https://www.fgdc.gov/standards/projects/FGDC-standards-projects/street-address/ChangeLog2011-2015.

The proposal for the Map Position element may be downloaded from https://www.fgdc.gov/standards/projects/FGDC-standards-projects/street-address/MapPositionProposal.

DATES: Reviewers shall submit comments on the proposed revision of the United States Thoroughfare, Landmark and Postal Address Data Standard to standards@fgdc.gov (subject line: Address Data Standard Revision) by April 25, 2016.

ADDRESSES: Reviewers shall submit comments on the United States Thoroughfare, Landmark and Postal Data Standard using the content template format at http://www.fgdc.gov/standards/process/standards-directives/template.doc. Instructions for completing the comment template are found in FGDC Standards Directive #2d, Standards Working Group Review Guidelines: Review Comment Template, http://www.fgdc.gov/standards/process/standards-directives/directive-2d-standards-working-group-review-guidelines-review-comment-template.

FOR FURTHER INFORMATION CONTACT: Ms. Julie Binder Maitra, FGDC Standards Coordinator, U.S. Geological Survey, Federal Geographic Data Committee, jmaitra@fgdc.gov, 703-648-4627.

SUPPLEMENTARY INFORMATION: Proposed revisions to the FGDC-endorsed United States Thoroughfare, Landmark and Postal Data Standard may be categorized as follows:

1. Corrections to typographic and minor grammatical errors, which include misspellings, missing words, etc., in all sections and minor corrections to the .XSD definitional document (for XML data exchange) and SQL code examples found in Part 4: Address Data Quality, Part 5: Data Exchange, and the appendices.

2. Updating of all links and references (URLs, etc.) throughout the Standard to reflect newer versions of other standards, reference documents, etc.

3. A proposal from the U.S. Census Bureau to add a MapPosition element to Part 2: Data Content, to describe the position of an address point. MapPosition allows multiple coordinate positions to be associated with an address. It is a repeatable element consisting of the coordinates of the map representation of an address with a description of the position. Such descriptions could be “Front Door”, “Parcel Centroid”, “Building Centroid”, and “Driveway,” amongst others. The MapPosition proposal may be downloaded from https://www.fgdc.gov/standards/projects/FGDC-standards-projects/street-address/MapPositionProposal.

Comments that concern specific issues/changes/additions may result in changes to the Address Data Standard. After FGDC endorsement of the revisions to the Address Data Standard, the updated Address Data Standard and a change log will be made available to the public on the FGDC Web site, www.fgdc.gov. This log identifies the location of the change, the existing language, the change that is made, and an explanation of the change itself. Reviewers may obtain information about how comments were addressed upon request.

The FGDC coordinates the Federal government's development of the National Spatial Data Infrastructure (NSDI), which encompasses the policies, standards, and procedures for organizations to cooperatively produce and share geospatial data. Federal agencies that make up the FGDC develop the NSDI in cooperation with organizations from State, local and tribal governments, the academic community, and the private sector. The authority for the FGDC is OMB Circular No. A-16 Revised on Coordination of Geographic Information and Related Spatial Data Activities (Revised August 19, 2002). More information on the FGDC and the NSDI is available at http://www.fgdc.gov.

Kenneth M. Shaffer,
Deputy Executive Director, Federal Geographic Data Committee, Core Science Systems, U.S. Geological Survey.

[FR Doc. 2016-01337 Filed 1-22-16; 8:45 am]

BILLING CODE 4338-11-P